DEPARTMENT OF THE INTERIOR

Minerals Management Service

Agency Information Collection Activities: Submission for Office of Management and Budget (OMB); Comment Request

AGENCY: Minerals Management Service (MMS), Interior.

ACTION: Notice of extension of a currently approved information collection (OMB Control Number 1010-0078).

SUMMARY: To comply with the Paperwork Reduction Act (PRA) of 1995 (44 U.S.C. 3501, et seq.), we are notifying you that we have submitted the information collection request (ICR) discussed below to the OMB for review and approval. We are also inviting your comments on this ICR.

DATES: Submit written comments by July 17, 2000.

ADDRESSES: You may submit comments directly to the Office of Information and Regulatory Affairs, OMB, Attention: Desk Officer for the Department of the Interior (1010-0078), 725 17th Street, NW., Washington, DC 20503. Mail or handcarry a copy of your comments to the Department of the Interior; Minerals Management Service; Attention: Rules Processing Team; Mail Stop 4024; 381 Elden Street; Herndon, Virginia 20170-4817.

Our practice is to make comments, including names and home addresses of respondents, available for public review during regular business hours. Individual respondents may request that we withhold their home address from the rulemaking record, which we will honor to the extent allowable by law. There may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Alexis London, Rules Processing Team, telephone (703) 787-1600. You may also contact Alexis London to obtain a copy of the collection of information at no cost.

SUPPLEMENTARY INFORMATION: Title: 30 CFR part 250, Subpart O, Training.

OMB Control Number: 1010-0078.

Abstract: The Outer Continental Shelf (OCS) Lands Act, as amended, 43 U.S.C. 1334(e), gives the Secretary of the Interior (Secretary) the responsibility to preserve, protect, and develop oil and gas resources in the OCS in a manner which is consistent with the need to make such resources available to meet the Nation's energy needs as rapidly as possible; balance orderly energy resources development with protection of human, marine, and coastal environments; ensure the public a fair and equitable return on resources of the OCS; and preserve and maintain free enterprise competition. Section 1332(6) of the OCS Lands Act requires that “operations in the [O]uter Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.” This authority and responsibility are among those delegated to MMS. To carry out these responsibilities, MMS issues regulations governing oil and gas or sulphur operations in the OCS.

The MMS uses the information collected under subpart O to ensure that certain workers in the OCS are properly trained in the use of equipment and procedures in drilling, well-completion, well-workover, and well-servicing well control operations and production safety system operations in order to avoid hazards inherent in those operations. This information is necessary to verify personnel training compliance with the requirements. Specifically, MMS uses the information to:

• Evaluate new programs and curriculum changes for technical accuracy and ensure that the programs incorporate appropriate instruction, simulation, and hands-on training activities.

• Review attendance records to verify that a student has attended the entire course before issuance of a certificate.

• Schedule MMS onsite evaluations and audits of training organizations.

• Ensure that personnel are trained in order to maintain a state of preparedness essential for safe operations.

We will protect information from respondents considered proprietary under the Freedom of Information Act (5 U.S.C. 552) and its implementing regulations (43 CFR part 2) and under regulations at 30 CFR 250.196. We will protect personal information such as social security numbers according to the Privacy Act. No items of a sensitive nature are collected. Responses are mandatory.

The PRA provides that an agency may not conduct or sponsor, and a person is not required to respond to, a collection of information unless it displays a currently valid OMB control number. We published a Federal Register notice with the required 60-day comment period soliciting comments on this ICR on February 23, 2000 (65 FR 8987).

Frequency: On occasion or annual.

Estimated Number and Description of Respondents: Approximately 130 Federal OCS oil, gas, and sulphur lessees and 52 training schools.

Estimated Annual Reporting and Recordkeeping “Hour” Burden: 2,300 burden hours. Refer to the following chart.

Citation 30 CFR 250 subpart O | Reporting and recordkeeping requirement | Number | Burden hours | Annual burden hours
1508 | Request exceptions (departures) to training requirements | 15 exceptions | .25 | ¹4
1512 | Request approval of alternative training program | 4 alternative programs | 100 | 400
1515 | Apply to MMS for training program accreditation renewal | 14 renewal accreditations | 46 | 644
1516 | Apply to MMS for approval of new training program accreditation | 7 new programs | 100 | 700
1504; 1517(c), (d), (j), (k) | Supply trainees with various documents, manuals, course updates, and certificates of training. | Supplying these documents is usual/customary practice for a training situation |  | 0
1517(h) | Furnish MMS personnel a copy of training program and plan during onsite review | These documents would be readily available. |  | 0
1517(i) | Submit annual course schedule and changes to MMS | 48 schedules | 8 | 384
1517(l) | Send MMS letter and course roster at the completion of each course | 2,100 letters/rosters | .08 | 168
Reporting Total |  | 2,188 Responses |  | 2,300
1503 | Provide drilling and well-completion/ well-workover floorhands job site well-control drill; record in driller and operations logs | Training drills are conducted as part of regularly scheduled drills required by subparts D, E, or F; burdens included in 1010-0053, 1010-0057, & 1010-0043 |  | 0
1517(a) 517(b) | Retain records for each trainee for 5 years Retain records of training program for 5 years | Training organizations maintain records as usual/customary business practice. Although some might retain records for less than 5 years, once the documentation is recorded and filed, no additional burden for longer retention as verified by the organizations consulted. |  | 0
Recordkeeping Total |  |  |  | 0
¹ Rounded.

Estimated Annual Recordkeeping “Non-Hour Cost” Burden: We have identified no non-hour cost burdens for this collection.

Comments: All comments are made a part of the public record. Section 3506(c)(2)(A) of the PRA requires each agency “”* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Send your comments directly to the offices listed under the addresses section of this notice. The OMB has up to 60 days to approve or disapprove the information collection but may respond after 30 days. Therefore, to ensure maximum consideration, OMB should receive public comments by July 17, 2000.

MMS Information Collection Clearance Officer: Jo Ann Lauterbach, (202) 208-7744.

Dated: May 4, 2000.
John V. Mirabella,
Acting Chief, Engineering and Operations Division.

[FR Doc. 00-15106 Filed 6-14-00; 8:45 am]

BILLING CODE 4310-MR-U